FEDERAL COMMUNICATIONS COMMISSION

47 CFR Part 76

[MB Docket Nos. 17-317, 17-105; FCC 18-166]

Electronic Delivery of MVPD Communications; Modernization of Media Regulation Initiative

AGENCY: Federal Communications Commission.

ACTION: Final rule; announcement of effective date.

SUMMARY: In this document, the Federal Communications Commission (Commission) announces that the Office of Management and Budget (OMB) has approved, for a period of three years, an information collection associated with the rules regarding electronic delivery of MVPD communications contained in the Commission's Report and Order in MB Docket Nos. 17-317 and 17-105, FCC 18-166. This document is consistent with the Report and Order, which stated that the Commission would publish a document in the Federal Register announcing the effective date of the rules.

DATES: The addition of § 76.1600 and the amendments to §§ 76.1614 and 76.1619, published at 83 FR 66149, December 26, 2018, are effective July 18, 2019.

FOR FURTHER INFORMATION CONTACT: Kim Matthews, Media Bureau at (202) 418-2154. For additional information concerning the Paperwork Reduction Act information collection requirements contact Cathy Williams at (202) 418-2918 or via email: cathy.williams@fcc.gov.

SUPPLEMENTARY INFORMATION: The Commission submitted revised information collection requirements for review and approval by OMB, as required by the Paperwork Reduction Act (PRA) of 1995. They were approved by OMB on July 9, 2019. The information collection requirements are contained in the Commission's Report and Order, Electronic Delivery of MVPD Communications, Modernization of Media Regulation Initiative, FCC 18-166 published at 83 FR 66149, December 26, 2018. The OMB Control Numbers are 3060-0652 and 3060-0548. The Commission publishes this document as an announcement of the effective date of the rules published December 26, 2018. If you have any comments on the burden estimates listed below, or how the Commission can improve the collections and reduce any burdens caused thereby, please contact Cathy Williams, Federal Communications Commission, Room 1-C854, 445 12th Street SW, Washington, DC 20554. Please include the OMB Control Number in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received OMB approval on July 9, 2019 for the information collection requirements contained in new rule 47 CFR 76.1600 and the changes to 47 CFR 76.1614 and 47 CFR 76.1619, adopted in the Report and Order published at 83 FR 66149, December 26, 2018. Under 5 CFR part 1320, an agency may not conduct or sponsor a collection of information unless it displays a current, valid OMB Control Number.

No person shall be subject to any penalty for failing to comply with a collection of information subject to the Paperwork Reduction Act that does not display a current, valid OMB Control Number. The OMB Control Numbers are 3060-0652 and 3060-0548.

The foregoing notice is required by the Paperwork Reduction Act of 1995, Pub. L. 104-13, October 1, 1995, and 44 U.S.C. 3507.

The total annual reporting burdens and costs for the respondents are as follows:

OMB Control Number: 3060-0652.

OMB Approval Date: July 9, 2019.

OMB Expiration Date: July 31, 2020.

Title: Section 76.309, Customer Service Obligations; Section 76.1600, Electronic Delivery of Notices; Section 76.1602, Customer Service—General Information, Section 76.1603, Customer Service—Rate and Service Changes and 76.1619, Information and Subscriber Bills.

Form Number: N/A.

Respondents: Business or other for-profit entities; State local or Tribal Government.

Number of Respondents and Responses: 4,113 respondents; 1,109,246 responses.

Estimated Time per Response: 0.0.167—1 hour.

Frequency of Response: On occasion reporting requirement and Third-party disclosure requirement.

Obligation to Respond: Required to obtain or retain benefits. Statutory authority for this information collection is contained in 47 U.S.C. 151, 154(i), 154(j), 325, 338, 624A, 631, 632, and 653.

Total Annual Burden: 41,796 hours.

Total Annual Cost: No Cost. Privacy Act Impact Assessment: No impact(s).

Nature and Extent of Confidentiality: There is no need for confidentiality with this collection of information.

OMB Control Number: 3060-0548.

OMB Approval Date: July 9, 2019.

OMB Expiration Date: June 30, 2020.

Title: Cable Television System Signal Carriage Obligation Recordkeeping: Section 76.1708, Principal Headend; Sections 76.1709 and 76.1620, Availability of Signals; Section 76.1614, Identification of Must-Carry Signals; Section 76.56, Signal Carriage Obligations.

Form Number: N/A.

Respondents: Business or other for-profit entities.

Number of Respondents and Responses: 4,103 respondents; 49,236 responses.

Estimated Time per Response: 0.5-1 hours.

Frequency of Response: Recordkeeping requirement, Third party disclosure requirement, On occasion and annual reporting requirements.

Obligation to Respond: Required to obtain or retain benefits. Statutory authority for this information collection is contained in 47 U.S.C. 154(i), 614 and 615.

Total Annual Burden: 24,618 hours.

Total Annual Cost: No Cost.

Privacy Act Impact Assessment: No impact(s).

Nature and Extent of Confidentiality: There is no need for confidentiality with this collection of information.

Needs and Uses: On November 15, 2018, the Commission adopted an order modernizing its rules regarding certain information that cable operators are required to provide to their subscribers on paper. The order permitted these notices to instead be provided electronically via verified email, so long as the cable operator complies with certain consumer safeguards. The order also permitted electronic delivery of subscriber privacy information that cable operators and other multichannel video programming distributors (MVPDs) are required to provide and authorized cable operators to respond to consumer requests and complaints via email in certain circumstances. The Commission has received OMB approval for the information collections required by the order. The Commission therefore revises these information collections to reflect the changes made in the order.

Federal Communications Commission.
Marlene Dortch,
Secretary, Office of the Secretary.

[FR Doc. 2019-15287 Filed 7-17-19; 8:45 am]

BILLING CODE 6712-01-P